DEPARTMENT OF COMMERCE

[Docket No. 150619534-5534-01]

Privacy Act of 1974; Abolished System of Records

AGENCY: National Institute of Standards and Technology, U.S. Department of Commerce.

ACTION: Notice to delete a Privacy Act System of Records: COMMERCE/NBS-2, “Inventors of Energy-Related Processes and Devices.”

SUMMARY: In accordance with the Privacy Act of (5 U.S.C. 552a(e)(4) and (11)); the Department of Commerce is issuing notice of its intent to delete the system of records entitled “Inventors of Energy-Related Processes and Devices.” The system of records is no longer collected or maintained by the National Institute of Standards and Technology (NIST). There are no records remaining in the system.

DATES: To be considered, written comments must be submitted on or before August 13, 2015. Unless comments are received, the deletion of the system of records will become effective as proposed on the date of publication of a subsequent notice in the Federal Register.

ADDRESSES: You may submit written comments by any of the following methods:

Email: Catherine.Fletcher@nist.gov. Include “Privacy Act COMMERCE/NBS-2, Inventors of Energy-Related Processes and Devices” in the subtext of the message.

Fax: (301) 973-5301, marked to the attention of Catherine S. Fletcher, Director, Management and Organization Office, National Institute of Standards and Technology, Gaithersburg, Maryland 20899.

Mail: Catherine Fletcher, National Institute of Standards and Technology Freedom of Information Act Office, 100 Bureau Drive, Mail Stop 1710, Gaithersburg, MD 20899-1710.

FOR FURTHER INFORMATION CONTACT: Director, Management and Organization Office, 100 Bureau Drive, Mail Stop 1710, Gaithersburg, MD 20899-1710, 301-975-4074.

SUPPLEMENTARY INFORMATION: This Privacy Act System of Records is being deleted because the records are no longer collected or maintained by the National Institute of Standards and Technology. There are no records remaining in the system.

Dated: July 8, 2015.
Michael J. Toland,
Department of Commerce, Acting Freedom of Information and Privacy Act Officer.

[FR Doc. 2015-17245 Filed 7-13-15; 8:45 am]

BILLING CODE 3510-DT-P